OVERSEAS PRIVATE INVESTMENT CORPORATION

Sunshine Act Meeting; July 13, 2006, Board of Directors Meeting

TIME AND DATE: Thursday, July 13, 2006, 10 a.m. (Open Portion), 10:15 a.m. (Closed Portion).

PLACE: Offices of the Corporation, Twelfth Floor Board Room, 1100 New York Avenue, NW., Washington, DC.

STATUS: Meeting Open to the Public from 10 a.m. to 10:15 a.m. Closed portion will commence at 10:15 a.m. (approx.).

MATTERS TO BE CONSIDERED: 1. President's Report.

2. Approval of April 27, 2006 Minutes (Open Portion).

FURTHER MATTERS TO BE CONSIDERED: (Closed to the Public 10:15 a.m.)

1. Report from Audit Committee.

2. Insurance Project—Egypt.

3. Finance Project—Russia.

4. Approval of April 27, 2006 Minutes (Closed Portion).

5. Pending Major Projects.

6. Reports.

CONTACT PERSON FOR INFORMATION: Information on the meeting may be obtained from Connie M. Downs at (202) 336-8438.

Dated: June 29, 2006.
Connie M. Downs,
Corporate Secretary, Overseas Private Investment Corporation.

[FR Doc. 06-6006 Filed 6-30-06; 11:38am]

BILLING CODE 3210-01-M